DEPARTMENT OF LABOR

Occupational Safety and Health Administration

[Docket No. ICR 1218-0209 2003]

Agency Information Collection Activities; Announcement of OMB Approval

AGENCY: Occupational Safety and Health Administration, Labor.

ACTION: Notice.

SUMMARY: The Occupational Safety and Health Administration (OSHA) is announcing that a collection of information regarding occupational injuries and illnesses has been approved by the Office of Management and Budget (OMB) under the Paperwork Reduction Act of 1995. This document announces the OMB approval number and expiration date.

FOR FURTHER INFORMATION CONTACT: Joseph J. DuBois, Office of Statistical Analysis, Occupational Safety and Health Administration. U.S. Department of Labor, Room N3507, 200 Constitution Avenue, NW., Washington, DC 20210, telephone (202) 693-1875.

SUPPLEMENTARY INFORMATION: In the Federal Register of July 3, 2003 (68 FR 39985-39986), the Agency announced its intent to request an extension of approval for the OSHA Data Collection System. This data collection will request occupational injury and illness data and employment and hours worked data from selected employers in the following Standard Industrial Classifications (SICs):

20-39 Manufacturing

0181 Ornamental Floriculture and Nursery Products

0182 Food Crops Grown Under Cover

0211 Beef Cattle Feedlots

0212 Beef Cattle, Except Feedlots

0213 Hogs

0214 Sheep and Goats

0219 General Livestock, Except Dairy and Poultry

0241 Dairy Farms

0251 Broiler, Fryer, and Roaster

0252 Chicken Eggs

0253 Turkeys and Turkey Eggs

0254 Poultry Hatcheries

0259 Poultry and Eggs, NEC

0291 General Farms, Primarily Livestock and Animal Specialties

0782 Lawn and Garden Services (North Carolina only)

0783 Ornamental Shrub and Tree Services

4212 Local Trucking Without Storage

4213 Trucking, Except Local

4214 Local Trucking With Storage

4215 Courier Services, Except Air

4221 Farm Product Warehousing and Storage

4222 Refrigerated Warehousing and Storage

4225 General Warehousing and Storage, NEC

4231 Terminal and Joint Terminal Maintenance Facilities for Motor Freight Transportation

4311 United States Postal Service

4491 Marine Cargo Handling

4492 Towing and Tugboat Services

4493 Marinas

4499 Water Transportation Services, NEC

4512 Air Transportation, Scheduled

4513 Air Courier Services

4581 Airports, Flying Fields, & Airport Terminal Services

4783 Packing and Crating

4952 Sewerage Systems (California only)

4953 Refuse Systems

4959S Sanitary Services, NEC (California only)

5012 Automobiles and Other Motor Vehicles

5013 Motor Vehicle Supplies and New Parts

5014 Tires and Tubes

5015 Motor Vehicle Parts, Used

5031 Lumber, Plywood, Millwork, and Wood Panels

5032 Brick, Stone, and Related Construction Materials

5033 Roofing, Siding and Insulation Materials

5039 Construction Materials, NEC

5051 Metal Service Centers and Offices

5052 Coal and Other Minerals and Ores

5093 Scrap and Waste Materials

5141 Groceries, General Line

5142 Packaged Frozen Food Products

5143 Dairy Products, Except Dried or Canned

5144 Poultry and Poultry Products

5145 Confectionery

5146 Fish and Seafoods

5147 Meats and Meat Products

5148 Fresh Fruits and Vegetables

5149 Groceries and Related Products, NEC

5181 Beer and Ale

5182 Wine and Distilled Alcoholic Beverages

5211 Lumber and Other Building Materials Dealers

5311 Department Stores (Pilot collection)

5411 Grocery Stores (Maryland only)

8051 Skilled Nursing Care Facilities

8052 Intermediate Care Facilities

8059 Nursing and Personal Care Facilities, NEC

8062 General Medical and Surgical Hospitals (Pilot collection)

8063 Psychiatric Hospitals (Pilot collection)

8069 Specialty Hospitals, Except Psychiatric (Pilot collection)

In addition, OSHA will collect data from establishments that were visited by OSHA after October 1, 1997 and are required to maintain the OSHA Log. Information will also be collected from Public Sector establishments in certain State Plan States.

In accordance with the Paperwork Reduction Act of 1995 (44 U.S.C. 3501-3520). OMB has renewed its approval for the information collection and assigned OMB control number 1218-0209. The approval expires 03/31/2007. Under 5 CFR 1320.5(b), an Agency may not conduct or sponsor, and a person is not required to respond to, a collection of information unless the collection displays a valid control number.

Dated: April 19, 2004.
John L. Henshaw,
Assistant Secretary of Labor.

[FR Doc. 04-9256 Filed 4-22-04; 8:45 am]

BILLING CODE 4510-26-M